OFFICE OF GOVERNMENT ETHICS

Agency Information Collection Activities; Proposed Collection; Comment Request; Electronic Public Financial Disclosure Extension Request

AGENCY: Office of Government Ethics (OGE).

ACTION: Notice and request for comments.

SUMMARY: The Office of Government Ethics (OGE) seeks comment on the development of a new module allowing filers to request an extension of the time available to file a public financial disclosure report within its Integrity electronic filing system. This notice announces that OGE intends to submit this collection to the Office of Management and Budget (OMB) for approval under the Paperwork Reduction Act.

DATES: Consideration will be given to all written comments received by March 25, 2024.

ADDRESSES: Comments may be submitted to OGE by the following methods:

Email: usoge@oge.gov (Include reference to “Extension Module PRA Comment” in the subject line of the message.)

Mail: Office of Government Ethics, 250 E Street SW, Suite 750, Washington DC 20024-3249, Attention: Jennifer Matis, Associate Counsel.

Instructions: Comments may be posted on OGE's website, www.oge.gov. Sensitive personal information, such as account numbers or Social Security numbers, should not be included. Comments generally will not be edited to remove any identifying or contact information.

FOR FURTHER INFORMATION CONTACT: Jennifer Matis at the U.S. Office of Government Ethics; telephone: 202-482-9216; TTY: 800-877-8339; Email: jmatis@oge.gov.

SUPPLEMENTARY INFORMATION:

Title: Electronic Public Financial Disclosure Extension Request.

Abstract: The Integrity Public Financial Disclosure Extension Request will be a module within OGE's Integrity electronic filing application. Certain officers and high-level employees in the executive branch are required to file public financial disclosure reports via the OGE Form 278e and OGE Form 278-T for the purpose of conflict of interest review and public disclosure. The form is also completed by individuals who are nominated by the President for high-level executive branch positions requiring Senate confirmation and individuals entering into and departing from other public reporting positions in the executive branch.

In 2014, OGE sought and received approval to incorporate the OGE Form 278e into its Integrity electronic filing application. Integrity has been in use since January 1, 2015, and most public financial disclosure filers now use Integrity to file the OGE Form 278e and OGE Form 278-T. Although Integrity is primarily used by current executive branch federal employees, it is also used to file termination reports by certain filers who have recently left government service.

The proposed module within Integrity will allow filers to easily request an extension of time to file their report. The module can be “turned on” by the filers' reporting agency, or the agency may choose not to use it. Requests for extensions are currently made by calling or emailing the filer's agency ethics official and require that the filer provide a reason for requesting an extension. The ethics official can then manually enter the number of days granted into Integrity and those days will be displayed on the cover page of the printed report, which is made public in accordance with 5 U.S.C. 13107. If the extension was granted because the filer is in a combat zone, the reason for the extension is also noted on the report. Once the new feature is deployed and an agency chooses to enable the feature, their filers will request an extension through the Integrity module. The electronic extension request will then be presented within the Integrity application to the appropriate ethics official at the employing agency. If the ethics official grants the request, the required information will automatically appear on the filer's report as generated by the Integrity application.

OGE believes that many agencies will avail themselves of the option to use the new module. For those that do, automating this process will make it easier for both the filer and the agency ethics officials and will reduce the chance that required information will be omitted from the filer's report. The development of this feature has been ranked a high priority by the Integrity Advisory Council (IAC), which is comprised of a diverse group of agencies that have at least 90% of their financial disclosure filers utilizing the Integrity application. The IAC was established to advise OGE on proposed enhancements, improvements, and support services.

OMB Control Number: To Be Determined.

Type of Information Collection: New collection.

Type of Review Request: Regular.

Affected Public: Private citizens who file termination reports from such positions after their government service ends.

Estimated Annual Number of Respondents: 511.

Estimated Time per Response: 2 minutes.

Estimated Total Annual Burden: 17 hours.

Request for Comments: Public comment is invited specifically on the need for and practical utility of this information collection, the accuracy of OGE's burden estimate, the enhancement of quality, utility and clarity of the information collected, and the minimization of burden (including the use of information technology). Comments received in response to this notice will be summarized for, and may be included with, the OGE request for OMB approval under the Paperwork Reduction Act. The comments will also become a matter of public record.

Dated: January 18, 2024.
Shelley K. Finlayson,
Acting Director, U.S. Office of Government Ethics.

[FR Doc. 2024-01332 Filed 1-23-24; 8:45 am]

BILLING CODE 6345-03-P